DEPARTMENT OF HEALTH AND HUMAN SERVICES

National Institutes of Health

Request for Comment: National Center for Complementary and Alternative Medicine Draft Strategic Plan

ACTION: Notice.

SUMMARY: The National Center for Complementary and Alternative Medicine (NCCAM) is developing its third strategic plan and invites the public to provide comments on a draft. The draft will be publicly available through the NCCAM Web site at http://nccam.nih.gov from on or about August 30 through September 30, 2010. The public is invited to provide comments through the NCCAM Web site.

Background: The National Center for Complementary and Alternative Medicine (NCCAM) was established in 1998 with the mission of exploring complementary and alternative healing practices in the context of rigorous science, training CAM researchers, and disseminating authoritative information to the public and professionals.

To date, NCCAM's efforts to rigorously study CAM, to train CAM researchers, and to communicate with the public and professionals, have been guided by NCCAM's previous strategic plans, located on the NCCAM Web site at http://nccam.nih.gov/about/plans.

The public is invited to review the draft of its third strategic plan and provide comments from August 30 through September 30, 2010. The papers may be viewed at http://nccam.nih.gov/.

Request for Comments: The public is invited to provide comments on a draft of NCCAM's third strategic plan. Comments may be provided through the NCCAM Web site at http://nccam.nih.gov.

FOR FURTHER INFORMATION: To request more information, visit the NCCAM Web site at http://nccam.nih.gov, call 1-888-644-6226, or e-mail nccamsp@mail.nih.gov.

Comments Due Date: Comments regarding the draft of NCCAM's strategic plan are best assured of having their full effect if received by September 30, 2010.

Dated: August 17, 2010.
Jack Killen,
Deputy Director, National Center for Complementary and Alternative Medicine National Institutes of Health.

[FR Doc. 2010-21160 Filed 8-24-10; 8:45 am]

BILLING CODE 4140-01-P